DEPARTMENT OF COMMERCE

International Trade Administration

[A-489-805]

Certain Pasta From Turkey: Final Rescission of Antidumping Duty New Shipper Review; 2014-2015

AGENCY: Enforcement and Compliance, International Trade Administration, Department of Commerce.

SUMMARY: The Department of Commerce (Department) published its Preliminary Rescission for the new shipper review (NSR) of the antidumping duty order on certain pasta from the Republic of Turkey (Turkey) on July 15, 2016. The period of review (POR) is July 1, 2014, through June 30, 2015. As discussed below, we preliminarily found that the sale made by Durum Gida Sanayi ve Ticaret A.S. (Durum) is not bona fide, and announced our preliminary intent to rescind the NSR. For the final results of this review, we have determined that Durum does not qualify for a NSR. Therefore, we are rescinding this NSR.

DATES: Effective December 1, 2016.

FOR FURTHER INFORMATION CONTACT: Fred Baker, AD/CVD Operations, Office VI, Enforcement and Compliance, International Trade Administration, Department of Commerce, 1401 Constitution Avenue NW., Washington, DC 20230; telephone: (202) 482-2924.

SUPPLEMENTARY INFORMATION:

Background

On July 15, 2016, the Department of Commerce (Department) published its Preliminary Rescission for the NSR of the antidumping duty order on certain pasta from Turkey.¹ For a complete description of the events that followed the publication of the Preliminary Rescission, see the Issues and Decision Memorandum.² The Issues and Decision Memorandum is a public document and is on file electronically via Enforcement and Compliance's Antidumping and Countervailing Duty Centralized Electronic Service System (ACCESS). ACCESS is available to registered users at https://access.trade.gov and in the Central Records Unit, room B8024 of the main Department of Commerce building. In addition, a complete version of the Issues and Decision Memorandum can be accessed directly at http://enforcement.trade.gov/frn/index.html. The signed Issues and Decision Memorandum and the electronic version of the Issues and Decision Memorandum are identical in content.

¹ See Certain Pasta From Turkey: Preliminary Rescission of Antidumping Duty New Shipper Review, 81 FR 46050 (July 15, 2016) (Preliminary Rescission).

² See Memorandum from Erin Begnal, Director, Office III, Antidumping and Countervailing Operations, to Ronald Lorentzen, Acting Assistant Secretary for Enforcement and Compliance, entitled “Certain Pasta from the Republic of Turkey: Issues and Decision Memorandum for the Final Rescission,” issued concurrently with and hereby adopted by, this notice (Issues and Decision Memorandum).

Scope of the Order

The merchandise covered by this order is certain non-egg dry pasta in packages of five pounds (2.27 kilograms) or less, whether or not enriched or fortified or containing milk or other optional ingredients such as chopped vegetables, vegetable purees, milk, gluten, diastases, vitamins, coloring and flavorings, and up to two percent egg white. The pasta covered by this scope is typically sold in the retail market, in fiberboard or cardboard cartons, or polyethylene or polypropylene bags of varying dimensions. Excluded from the scope of this review are refrigerated, frozen, or canned pastas, as well as all forms of egg pasta, with the exception of non-egg dry pasta containing up to two percent egg white. The merchandise subject to review is currently classifiable under item 1902.19.20 of the Harmonized Tariff Schedule of the United States (HTSUS). Although the HTSUS subheading is provided for convenience and customs purposes, the written description of the merchandise subject to the order is dispositive.

Analysis of Comments Received

All issues raised in the case briefs by parties are addressed in the Issues and Decision Memorandum ³ and the Final Rescission Memorandum.⁴ A list of the issues which parties raised is attached to this notice as an Appendix.

³ Id.

⁴ See Memorandum to Scot Fullerton, Re: Certain Pasta from the Republic of Turkey: Final Rescission of New Shipper Review, dated November 25, 2016 (Final Rescission Memorandum).

Rescission of New Shipper Review

For the Preliminary Rescission, the Department analyzed the bona fides of Durum's single sale, and preliminarily found it was not a bona fide sale.⁵ In Durum's case brief, Durum submitted comments on the Department's bona fides analysis.⁶ Petitioners ⁷ submitted a rebuttal brief on September 14, 2016, also addressing the Department's bona fides analysis.⁸ Additionally, on September 20, 2016, and October 3, 2016, Durum and Petitioners submitted affirmative ⁹ and rebuttal comments,¹⁰ respectively, regarding Durum's eligibility for a NSR. In this final rescission we have not analyzed parties' comments on the bona fides of Durum's sale because we have determined that Durum did not qualify for a NSR. For a complete discussion see the Issues and Decision Memorandum.

⁵ See Memorandum from Fred Baker to Scot Fullerton, Re: 2014-2015 Antidumping Duty New Shipper Review of Certain Pasta from Turkey: Preliminary Bona Fide Sales Analysis for Durum Gida Sanayi ve Ticaret A.S., dated June 28, 2016.

⁶ See Case Brief of Durum Gida Sanyi ve Ticaret A.S., dated August 29, 2016.

⁷ Petitioners are the American Italian Pasta Company, New World Pasta Company, and Dakota Growers Pasta Company.

⁸ See Petitioners' Rebuttal Brief for Durum Gida Sanayi ve Ticaret A.S., dated September 14, 2016.

⁹ See Letter from Petitioners to Secretary of Commerce, Re: New Shipper Review of Certain Pasta from Turkey—Petitioners' Comments on New Factual Information for Durum Gida Sanayi ve Ticaret A.S., dated September 20, 2016 (Petitioners' Comments on New Factual Information); Letter from Durum to the Honorable Penny Pritzker, Re: Pasta from Turkey (New Shipper Review): Comments on Factual Information, dated September 20, 2016 (Durum's Comments on New Factual Information).

¹⁰ See Letter from Petitioners to the Secretary of Commerce, Re: New Shipper Review of Certain Pasta from Turkey—Petitioners' Rebuttal Comments on New Factual Information for Durum Gida Sanayi ve Ticaret A.S., dated October 3, 2016; Letter from Durum to the Honorable Penny Pritzker, Pasta from Turkey (New Shipper Review): Rebuttal Comments on Factual Information, dated October 3, 2016 (Durum's Rebuttal Comments on New Factual Information).

Because we have determined that Durum does not qualify for a NSR, we are rescinding this NSR.

Assessment

As the Department is rescinding this NSR, we have not calculated a company-specific dumping margin for Durum. Durum's entries will be liquidated at the “all-others” rate applicable to Turkish exporters who do not have their own company-specific rate. That rate is 51.49 percent.

Cash Deposit Requirements

Effective upon publication of this notice of final rescission of the NSR of Durum, the Department will instruct U.S. Customs and Border Protection to discontinue the option of posting a bond or security in lieu of a cash deposit for entries of subject merchandise from Durum. Because we did not calculate a dumping margin for Durum, Durum continues to be subject to the “all-others” rate. The all-others cash deposit rate is 51.49 percent. These cash deposit requirements shall remain in effect until further notice.

Administrative Protective Order

This notice also serves as a reminder to parties subject to Administrative Protective Order (APO) of their responsibility concerning the return or destruction of proprietary information disclosed under APO in accordance with 19 CFR 351.305, which continues to govern business proprietary information in these segments of the proceeding. Timely written notification of the return or destruction of APO materials, or conversion to judicial protective order, is hereby requested. Failure to comply with the regulations and terms of an APO is a violation which is subject to sanction.

We are issuing and publishing this notice in accordance with sections 751(a)(2)(B) and 777(i) of the Tariff Act of 1930, as amended, and 19 CFR 351.214.

Dated: November 25, 2016.
Ronald Lorentzen,
Acting Assistant Secretary for Enforcement and Compliance.

Appendix—Issues and Decision Memorandum

I. Summary

II. Background

III. Discussion of the Issues

Comment 1: Whether Durum Qualifies for a New Shipper Review

Comment 2: Whether Durum Had a Bona Fide Sale During the Period of Review

IV. Recommendation

[FR Doc. 2016-28856 Filed 11-30-16; 8:45 am]

BILLING CODE 3510-DS-P